FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 30, 2015.

A. Federal Reserve Bank of St. Louis (Yvonne Sparks, Community Development Officer) P.O. Box 442, St. Louis, Missouri 63166-2034:

1. Michael J. Hackworth and Jennifer Hackworth Thompson, as co-trustees of the L. Dwayne Hackworth Irrevocable Trust, individually, and as members of a family control group which consists of the Trust and L. Dwayne Hackworth, all of Ellington, Missouri; to acquire voting shares of Greenville Bancshares, Inc., Piedmont, Missouri, and thereby indirectly acquire voting shares of Peoples Community Bank, Greenville, Missouri.

Board of Governors of the Federal Reserve System, March 10, 2015.
Michael J. Lewandowski,
Associate Secretary of the Board.

[FR Doc. 2015-05791 Filed 3-12-15; 8:45 am]

BILLING CODE 6210-01-P